DEPARTMENT OF LABOR

Employment and Training Administration

[TA-W-61,428]

Dana Corporation Heavy Vehicle Technologies and System Operations Product Service Center Including On-Site Leased Workers of Adecco, Statesville, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on May 24, 2007, applicable to workers of Dana Corporation, Heavy Vehicle Technologies and System Operations, Product Service Center, Statesville, North Carolina. The notice was published in the Federal Register on June 7, 2007 (72 FR 31616).

At the request of the petitioners, the Department reviewed the certification for workers of the subject firm. The workers are engaged in the production of axles, transmissions, torque converters and transfer cases.

New information shows that leased workers of Adecco were employed on-site at the Statesville, North Carolina location of Dana Corporation, Heavy Vehicle Technologies and System Operations, Product Service Center. The Department has determined that the Adecco workers were sufficiently under the control of Dana Corporation to be considered leased workers.

Based on these findings, the Department is amending this certification to include leased workers of Adecco working on-site at the Statesville, North Carolina location of the subject firm.

The intent of the Department's certification is to include all workers employed at Dana Corporation, Heavy Vehicle Technologies and System Operations, Product Service Center, Statesville, North Carolina who were adversely affected by a shift in production to Belgium.

The amended notice applicable to TA-W-61,428 is hereby issued as follows:

All workers of Dana Corporation, Heavy Vehicle Technologies and System Operations, Product Service Center, including on-site leased workers of Adecco, Statesville, North Carolina, who became totally or partially separated from employment on or after April 30, 2006, through May 24, 2009, are eligible to apply for adjustment assistance under Section 223 of the Trade Act of 1974, and are also eligible to apply for alternative trade adjustment assistance under Section 246 of the Trade Act of 1974.

Signed at Washington, DC this 19th day of July 2007.
Richard Church,
Certifying Officer, Division of Trade Adjustment Assistance.

[FR Doc. E7-14419 Filed 7-25-07; 8:45 am]

BILLING CODE 4510-FN-P